DEPARTMENT OF TRANSPORTATION

Federal Aviation Administration

14 CFR Part 39

[Docket No. 98-NM-228-AD; Amendment 39-11820; AD 2000-14-10]

RIN 2120-AA64

Airworthiness Directives; McDonnell Douglas Model DC-10-10, -15, -30, and -40 Series Airplanes; Model MD-10-10F and MD-10-30F Series Airplanes; and KC-10A (Military) Airplanes

AGENCY: Federal Aviation Administration, DOT.

ACTION: Final rule.

SUMMARY: This amendment supersedes an existing airworthiness directive (AD), applicable to certain McDonnell Douglas Model DC-10 series airplanes and KC-10A (military) airplanes, that currently requires repetitive inspections to detect failure of the attachment fasteners located in the banjo No. 4 fitting of the vertical stabilizer. That AD also requires a one-time inspection to detect cracking of the flanges and bolt holes of the banjo No. 4 fitting, and repair or replacement of the attachment fasteners with new, improved fasteners. This amendment adds a new one-time inspection to determine whether certain fasteners are installed in the banjo No. 4 fitting of the vertical stabilizer, and follow-on actions, if necessary. This amendment is prompted by reports of failure of certain fasteners installed in the banjo No. 4 fitting of the vertical stabilizer. The actions specified by this AD are intended to prevent cracking of the attachment fasteners of the vertical stabilizer, which could result in loss of fail-safe capability of the vertical stabilizer and reduced controllability of the airplane.

DATES: Effective August 23, 2000.

The incorporation by reference of McDonnell Douglas Service Bulletin DC10-55-023, Revision 02, dated October 30, 1996; and McDonnell Douglas Service Bulletin DC10-55-023, Revision 03, dated March 25, 1998; as listed in the regulations, is approved by the Director of the Federal Register as of August 23, 2000.

The incorporation by reference of McDonnell Douglas DC-10 Service Bulletin 55-23, dated December 17, 1992; and McDonnell Douglas DC-10 Service Bulletin 55-23, Revision 1, dated December 17, 1993; as listed in the regulations, was approved previously by the Director of the Federal Register as of April 24, 1997 (61 FR 12015, March 25, 1996).

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Ron Atmur, Aerospace Engineer, Airframe Branch, ANM-120L, FAA, Transport Airplane Directorate, Los Angeles Aircraft Certification Office, 3960 Paramount Boulevard, Lakewood, California 90712-4137; telephone (562) 627-5224; fax (562) 627-5210.

SUPPLEMENTARY INFORMATION: A proposal to amend part 39 of the Federal Aviation Regulations (14 CFR part 39) by superseding AD 96-07-01, amendment 39-9549 (61 FR 12015, March 25, 1996), which is applicable to certain McDonnell Douglas Model DC-10-10, -15, -30, and -40 series airplanes, and KC-10A (military) airplanes, was published as a supplemental notice of proposed rulemaking (NPRM) in the Federal Register on April 11, 2000 (65 FR 19350). The action proposed to continue to require repetitive inspections to detect any failure of the attachment fasteners located in the banjo No. 4 fitting of the vertical stabilizer, a one-time inspection to detect cracking of the flanges and bolt holes of the banjo No. 4 fitting, and repair or replacement of the attachment fasteners with new, improved fasteners. The action also proposed to add a new one-time inspection to determine whether certain fasteners are installed in the banjo No. 4 fitting of the vertical stabilizer, and follow-on actions, if necessary.

Comments

Interested persons have been afforded an opportunity to participate in the making of this amendment. Due consideration has been given to the comments received.

Support for the Proposed AD

Two commenters support the proposed AD.

Request To Eliminate a Certain Inspection Requirement for Certain Airplanes

One commenter requests that the FAA further clarify the requirements of paragraph (b)(2) of the proposed AD. Specifically, the commenter requests that, for airplanes that have repairs previously installed in accordance with paragraph (c)(3)(i) of the proposed AD, the requirement to accomplish an eddy current surface inspection of the forward and aft flanges be removed. The commenter states that paragraph (c)(3)(i) of the proposed AD requires the actions specified in paragraph (b) of the proposed AD to be accomplished on any fastener hole that has part number (P/N) S4931917-8Y fasteners installed. Paragraph (b) of the proposed AD requires an eddy current surface inspection to detect cracking of the forward and aft flanges of the banjo No. 4 fitting. The commenter contends that some airplanes will have repairs previously installed in accordance with paragraph (b)(2) of the proposed AD. Such repairs would prevent accomplishment of the eddy current inspection required by paragraph (b) of the proposed AD.

The FAA concurs. The FAA finds that, for airplanes on which the repair required by paragraph (b)(2) of the AD has been accomplished prior to the effective date of this AD, it is not possible to accomplish the eddy current surface inspection to detect cracking of the forward and aft flanges required by paragraph (b) of the AD. However, it is possible to accomplish the eddy current bolt hole inspection of the bolt holes of the banjo No. 4 fitting required by paragraph (b) of the AD. The FAA also finds that it is not likely that cracking would develop in the repaired area between December 17, 1992 (the issue date of McDonnell Douglas Service Bulletin 55-23, which is referenced in the AD as a source of service information), and April 24, 1996 (the effective date of AD 96-07-01 for accomplishing the inspection of the flanges), and during the compliance time [i.e., within 5 years after April 24, 1996, or within 1,500 landings from the inspection required by paragraph (c)(3) of this AD] for accomplishing the installation of P/N S4931917-8Y Hi-Lok fasteners. Therefore, the FAA has revised paragraph (c)(3)(i)(B) of the final rule to provide an exception for the subject airplanes for accomplishing the requirements of paragraph (b) of the AD. A new paragraph (d) has also been added to the final rule.

Explanation of Change to the Applicability of the Proposed AD

On May 9, 2000 (i.e., after issuance of the supplemental NPRM), the FAA issued a Type Certificate (TC) for McDonnell Douglas Model MD-10-10F and MD-10-30F series airplanes. Model MD-10 series airplanes are Model DC-10 series airplanes that have been modified with an Advanced cockpit. The banjo No. 4 fitting installed on Model MD-10-10F and MD-10-30F series airplanes (before or after the modifications necessary to meet the type design of a Model MD-10 series airplane) are identical to those on the affected Model DC-10-10, -15, -30, and -40 series airplanes, and KC-10A (military) airplanes. Therefore, all of these airplanes may be subject to the same unsafe condition. In addition, the manufacturer's fuselage number and factory serial number are not changed during the conversion from a Model DC-10 to Model MD-10. The FAA finds that Model DC-10-10F and MD-10-30F series airplanes were not specifically identified by model in the applicability of the supplemental NPRM; however, they were identified by manufacturer's fuselage numbers in McDonnell Douglas DC-10 Service Bulletin 55-23, Revision 1, dated December 17, 1993 (which was referenced in the applicability statement of the AD for determining the specific affected airplanes). Therefore, the FAA has revised the applicability throughout the final rule to include Model MD-10-10F and MD-10-30F series airplanes.

Conclusion

After careful review of the available data, including the comments noted above, the FAA has determined that air safety and the public interest require the adoption of the rule with the changes previously described. The FAA has determined that these changes will neither increase the economic burden on any operator nor increase the scope of the AD.

Cost Impact

There are approximately 420 Model DC-10-10, -15, -30, and -40 series airplanes,Model MD-10-10F and MD-10-30F series airplanes, and KC-10A (military) airplanes of the affected design in the worldwide fleet. The FAA estimates that 242 airplanes of U.S. registry will be affected by this AD.

Since the issuance of AD 96-07-01, the manufacturer has revised its estimate of the work hours necessary to perform the actions that are currently required by that AD. McDonnell Douglas Service Bulletin DC10-55-023, Revision 03, reflects the manufacturer's revised estimates; and the cost information, below, also has been revised to refer to the new estimates.

The visual inspection that is currently required by AD 96-07-01, and retained in this AD, takes approximately 1 work hour per airplane to accomplish, at an average labor rate of $60 per work hour. Based on these figures, the cost impact of the visual inspection currently required by that AD on U.S. operators is estimated to be $14,520, or $60 per airplane, per inspection cycle.

The eddy current inspection that is currently required by AD 96-07-01, and retained in this AD, takes approximately 4 work hours per airplane to accomplish, at an average labor rate of $60 per work hour. Based on these figures, the cost impact of the eddy current inspection currently required by that AD on U.S. operators is estimated to be $58,080, or $240 per airplane.

The replacement of the 12 attachment fasteners of the banjo No. 4 fitting that is currently required by AD 96-07-01, and retained in this AD, takes approximately 14 work hours per airplane to accomplish, at an average labor rate of $60 per work hour. Required parts cost approximately $250 per airplane. Based on these figures, the cost impact of the replacement currently required by that AD on U.S. operators is estimated to be $263,780, or $1,090 per airplane.

The new inspection that is required by this AD action will take approximately 1 work hour per airplane to accomplish, at an average labor rate of $60 per work hour. Based on these figures, the cost impact of the inspection required by this AD on U.S. operators is estimated to be $14,520, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator that has already completed the replacement of the attachment fasteners of the banjo No. 4 fitting in accordance with AD 96-07-01 be required to repeat the replacement, it will take approximately 14 additional work hours, at an average labor rate of $60 per work hour. Additional parts will cost $150 per airplane. Based on these figures, the cost impact of any necessary repetition of the replacement is estimated to be $990 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9549 (61 FR 12015, March 25, 1996), and by adding a new airworthiness directive (AD), amendment 39-11820, to read as follows:

2000-14-10 McDonnell Douglas: Amendment 39-11820. Docket 98-NM-228-AD. Supersedes AD 96-07-01, Amendment 39-9549.

Applicability: Model DC-10-10, -15, -30, and -40 series airplanes, Model MD-10-10F and MD-10-30F series airplanes, and KC-10A (military) airplanes; as listed in McDonnell Douglas DC-10 Service Bulletin 55-23, Revision 1, dated December 17, 1993; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent cracking of the attachment fasteners of the vertical stabilizer, which could result in loss of fail-safe capability of the vertical stabilizer and reduced controllability of the airplane, accomplish the following:

External Visual Inspection

(a) Except as required by paragraph (c)(3) of this AD, within 1,500 landings after April 24, 1996 (the effective date of AD 96-07-01, amendment 39-9549): Perform an external visual inspection, using a minimum 5X power magnifying glass, to detect any failure of the 12 attachment fasteners located in the banjo No. 4 fitting of the vertical stabilizer (as specified in McDonnell Douglas DC-10 Service Bulletin 55-23, Revision 1, dated December 17, 1993; or McDonnell Douglas Service Bulletin DC10-55-023, Revision 02, dated October 30, 1996, or Revision 03, dated March 25, 1998). Perform this inspection in accordance with procedures specified in McDonnell Douglas Nondestructive Testing Manual, Chapter 20-10-00, or McDonnell Douglas Nondestructive Testing Standard Practice Manual, Part 09.

No Failure Condition: Repetitive Inspections

(1) If no failure is detected, repeat the external visual inspection thereafter at intervals not to exceed 1,500 landings until the requirements of paragraph (b) of this AD are accomplished.

Any Failure Condition: Corrective Actions

(2) If any failure is detected, prior to further flight, accomplish the requirements of paragraph (b) of this AD.

Eddy Current Surface Inspection and Eddy Current Bolt Hole Inspection

(b) Except as required by paragraphs (a)(2) and (c)(3)(ii) of this AD, within 5 years after April 24, 1996: Perform an eddy current surface inspection to detect cracking of the forward and aft flanges; and an eddy current bolt hole inspection of the bolt holes of the banjo No. 4 fitting; in accordance with McDonnell Douglas DC-10 Service Bulletin 55-23, Revision 1, dated December 17, 1993; or McDonnell Douglas Service Bulletin DC10-55-023, Revision 02, dated October 30, 1996, or Revision 03, dated March 25, 1998.

Note 2: Paragraph (b) of this AD does not require that eddy current bolt hole inspections be accomplished for the bolt holes of the banjo No. 4 fitting if the attachment fasteners were replaced prior to April 24, 1996, in accordance with McDonnell Douglas DC-10 Service Bulletin 55-23, dated December 17, 1992.

No Cracking Condition: Replacement

(1) If no cracking is detected, prior to further flight, replace the 12 attachment fasteners located on the banjo No. 4 fitting with new, improved attachment fasteners, in accordance with McDonnell Douglas DC-10 Service Bulletin 55-23, dated December 17, 1992, or Revision 1, dated December 17, 1993; or McDonnell Douglas Service Bulletin DC10-55-023, Revision 02, dated October 30, 1996, or Revision 03, dated March 25, 1998. After the effective date of this AD, only Revision 03 of the service bulletin shall be used.

(i) Accomplishment of the replacement in accordance with the original issue of the service bulletin constitutes terminating action for the requirements of paragraph (a) of this AD, provided that the eddy current surface inspection of the forward and aft flanges is accomplished in accordance with McDonnell Douglas DC-10 Service Bulletin 55-23, Revision 1, dated December 17, 1993; or McDonnell Douglas Service Bulletin DC10-55-023, Revision 02, dated October 30, 1996, or Revision 03, dated March 25, 1998.

(ii) Accomplishment of the replacement in accordance with McDonnell Douglas DC-10 Service Bulletin 55-23, Revision 1, dated December 17, 1993; or McDonnell Douglas Service Bulletin DC10-55-023, Revision 02, dated October 30, 1996, or Revision 03, dated March 25, 1998; constitutes terminating action for the requirements of paragraph (a) of this AD, provided that the eddy current surface inspection of the forward and aft flanges, and the eddy current bolt hole inspection of the bolt holes of the banjo No. 4 fitting, are accomplished in accordance with McDonnell Douglas DC-10 Service Bulletin 55-23, Revision 1, or McDonnell Douglas Service Bulletin DC10-55-023, Revision 02, or Revision 03.

Any Cracking Condition: Repair

(2) If any cracking is detected, prior to further flight, repair either in accordance with Figure 6 or Figure 7, as applicable, of Chapter 55-20-00, Volume 1, of the DC-10 Structural Repair Manual; or in accordance with a method approved by the Manager, Los Angeles Aircraft Certification Office (ACO), FAA, Transport Airplane Directorate.

One-Time Detailed Visual Inspection and Follow-On Actions, If Necessary

(c) For airplanes that have not accomplished the requirements of paragraph (b) in accordance with McDonnell Douglas Service Bulletin DC10-55-023, Revision 03, dated March 25, 1998: Within 1,500 landings after the effective date of this AD, perform a one-time detailed visual inspection to determine whether second oversize fasteners having part number (P/N) S4931917-8Y are installed in the banjo No. 4 fitting of the vertical stabilizer.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If second oversize fasteners having P/N S4931917-8Y are not installed, and the actions required by paragraph (b) of this AD have been accomplished, no further action is required by this AD.

(2) If second oversize fasteners having P/N S4931917-8Y are not installed, and the actions required by paragraph (b) of this AD have not been accomplished: Within 1,500 landings after the last inspection performed in accordance with paragraph (a) of this AD, repeat that inspection, and perform the follow-on actions specified by paragraph (a) of this AD.

(3) If second oversize fasteners having P/N S4931917-8Y are installed, prior to further flight, perform an external visual inspection to detect any failure of the 12 attachment fasteners located in the banjo No. 4 fitting of the vertical stabilizer in accordance with paragraph (a) of this AD.

(i) If no failure is detected, accomplish the actions specified in paragraph (c)(3)(i)(A) and (c)(3)(i)(B) of this AD.

(A) For any hole that has a P/N S4931917-8Y fastener installed: Repeat the external visual inspection thereafter at intervals not to exceed 1,500 landings until the requirements of paragraph (b) of this AD are accomplished.

(B) For any hole that has a P/N S4931917-8Y fastener installed: Within 5 years after April 24, 1996, or within 1,500 landings from the inspection required by paragraph (c)(3) of this AD, whichever occurs later, accomplish the requirements of paragraph (b) of this AD, except as provided in paragraph (d) of this AD.

(ii) If any failure is detected, prior to further flight, accomplish the requirements of paragraph (b) of this AD for the failed fastener and its associated fastener hole only.

(d) For airplanes on which the repair required by paragraph (b)(2) of this AD has been accomplished prior to the effective date of this AD to comply with paragraph (c)(3)(i)(B) of this AD, accomplish only the eddy current bolt hole inspection of the bolt holes of the banjo No. 4 fitting required by paragraph (b) of this AD.

Spares

(e) As of the effective date of this AD, no person shall install a second oversize fastener having P/N S4931917-8Y in the banjo No. 4 fitting of the vertical stabilizer on any airplane.

Alternative Methods of Compliance

(f) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Incorporation by Reference

(h) Except as provided by paragraphs (a), (b)(2), and (c) of this AD, the actions shall be done in accordance with McDonnell Douglas DC-10 Service Bulletin 55-23, dated December 17, 1992; McDonnell Douglas DC-10 Service Bulletin 55-23, Revision 1, dated December 17, 1993; McDonnell Douglas Service Bulletin DC10-55-023, Revision 02, dated October 30, 1996; or McDonnell Douglas Service Bulletin DC10-55-023, Revision 03, dated March 25, 1998; as applicable.

(1) The incorporation by reference of McDonnell Douglas Service Bulletin DC10-55-023, Revision 02, dated October 30, 1996; and McDonnell Douglas Service Bulletin DC10-55-023, Revision 03, dated March 25, 1998; is approved by the Director of the Federal Register in accordance with 5 U.S.C. 552(a) and 1 CFR part 51.

(2) The incorporation by reference of McDonnell Douglas DC-10 Service Bulletin 55-23, dated December 17, 1992; and McDonnell Douglas DC-10 Service Bulletin 55-23, Revision 1, dated December 17, 1993; was approved previously by the Director of the Federal Register as of April 24, 1996 (61 FR 12015, March 25, 1996).

(3) Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

Effective Date

(i) This amendment becomes effective on August 23, 2000.

Issued in Renton, Washington, on July 11, 2000.
Donald L. Riggin,
Acting Manager, Transport Airplane Directorate, Aircraft Certification Service.

[FR Doc. 00-18038 Filed 7-18-00; 8:45 am]

BILLING CODE 4910-13-U